APPALACHIAN STATES LOW-LEVEL RADIOACTIVE WASTE COMMISSION

Annual Meeting

TIME AND DATE: 10 a.m.-12:30 p.m. November 1, 2024

PLACE: Harrisburg Hilton and Towers. One North Second Street, Harrisburg, PA 17101/Virtually via MS Teams.

STATUS: The meeting will be open to the public.

MATTERS TO BE CONSIDERED:

Portions Open to the Public: The primary purpose of this meeting is to (1) Review the independent auditors' report of the Commission's financial statements for fiscal year 2023-2024; (2) Review the Low-Level Radioactive Waste (LLRW) disposal information for 2023; (3) Consider a proposed revised budget for fiscal year 2024-2025 and a proposed budget for fiscal year 2025-2026; (4) Review the status of commercial LLRW disposal facilities and recent developments; (5) Review and Discuss proposed changes to the bylaws; and (6) Elect the Commission's Officers.

Portions Closed to the Public: Executive Session, if deemed necessary, will be announced at the meeting.

CONTACT PERSON FOR MORE INFORMATION: Rich Janati, Administrator of the Commission at 717.787.2480.

Rich Janati,
Administrator, Appalachian States Low-Level Radioactive Waste Commission.

[FR Doc. 2024-22126 Filed 10-4-24; 8:45 am]

BILLING CODE P